DEPARTMENT OF DEFENSE

Office of the Secretary

DoD Board of Actuaries; Notice of Federal Advisory Committee Meeting

AGENCY: DoD.

ACTION: Meeting notice.

SUMMARY: Under the provision of the Federal Advisory Committee Act of 1972 (5 U.S.C., Appendix as amended), the Government in the Sunshine Act of 1976 (5 U.S.C. 552b, as amended), and 41 CFR 102-3.150, the Department of Defense announces that the following Federal Advisory Committee meeting of the DoD Board of Actuaries will take place.

DATES: July 18, 2013, from 1:00 p.m. to 5:00 p.m. and July 19, 2013, from 10:00 a.m. to 1:00 p.m.

ADDRESSES: 4800 Mark Center Drive, Conference Room 4, Level B1, Alexandria, VA 22350.

FOR FURTHER INFORMATION CONTACT: Kathleen Ludwig at the Defense Human Resource Activity, DoD Office of the Actuary, 4800 Mark Center Drive, STE 06J25-01, Alexandria, VA 22350-4000. Phone: (571) 372-1993, Email: Kathleen.Ludwig@osd.pentagon.mil.

SUPPLEMENTARY INFORMATION:

Purpose of the Meeting: The purpose of the meeting is for the Board to review DoD actuarial methods and assumptions to be used in the valuations of the Education Benefits Fund, the Military Retirement Fund, and the Voluntary Separation Incentive Fund, in accordance with the provisions of Section 183, Section 2006, Chapter 74 (10 U.S.C. 1464 et. seq), and Section 1175 of Title 10.

Agenda:

Education Benefits Fund (July 18, from 1:00 p.m. to 5:00 p.m.)

1. Briefing on Investment Experience

2. September 30, 2012, Valuation Proposed Economic Assumptions*

3. September 30, 2012, Valuation Proposed Methods and Assumptions—Reserve Programs*

4. September 30, 2012, Valuation Proposed Methods and Assumptions—Active Duty Programs*

5. Developments in Education Benefits

Military Retirement Fund (July 19, from 10:00 a.m. to 1:00 p.m.)

1. Briefing on Investment Experience

2. September 30, 2012, Valuation of the Military Retirement Fund*

3. Proposed Methods and Assumptions for September 30, 2013, Valuation of the Military Retirement Fund*

4. Proposed Methods and Assumptions for December 31, 2012, Voluntary Separation Incentive (VSI) Fund Valuation*

5. Recent and Proposed Legislation

* Board approval required

Public's accessibility to the meeting: Pursuant to 5 U.S.C. 552b and 41 CFR 102-3.140 through 102-3.165, and the availability of space, this meeting is open to the public. Seating is on a first come basis. The Mark Center is an annex of the Pentagon. Those without a valid DoD Common Access Card must contact Kathleen Ludwig at 571-372-1993 no later than June 14, 2013. Failure to make the necessary arrangements will result in building access being denied. It is strongly recommended that attendees plan to arrive at the Mark Center at least 30 minutes prior to the start of the meeting.

Committee's Designated Federal Officer or Point of Contact: Persons desiring to attend the DoD Board of Actuaries meeting or make an oral presentation or submit a written statement for consideration at the meeting must notify Kathleen Ludwig at (571) 372-1993, or Kathleen.Ludwig@osd.pentagon.mil, by June 14, 2013.

Dated: February 6, 2013.
Aaron Siegel,
Alternate OSD Federal Register Liaison Officer, Department of Defense.

[FR Doc. 2013-03051 Filed 2-11-13; 8:45 am]

BILLING CODE 5001-06-P